DEPARTMENT OF VETERANS AFFAIRS

Medical Research Service Merit Review Committee, Notice of Meetings

The Department of Veterans Affairs gives notice under the Federal Advisory Committee Act, 5 U.S.C. App., of the following meetings to be held from 8 a.m. to 5 p.m. as indicated below:

Subcommittee for | Date | Location *
Nephrology | September 17, 2001 | Radisson Barcelo.
Cardiovascular Studies | September 24, 2001 | Holiday Inn Central.
Endocrinology | September 24-25, 2001 | Marriott Residence Inn.
Aging & Clinical Geriatrics | October 1, 2001 | Holiday Inn Central.
Gastroenterology | October 1, 2001 | Holiday Inn Central.
Hematology | October 3, 2001 | Holiday Inn Central.
Mental Hlth & Behav Sciences | October 4-5, 2001 | Holiday Inn Central.
Neurobiology-C | October 8-9, 2001 | Radisson Barcelo.
Immunology & Dermatology | October 9, 2001 | Holiday Inn Central.
Neurobiology-D | October 11-12, 2001 | Marriott Residence Inn.
Respiration | October 12, 2001 | Holiday Inn Central.
Surgery | October 15, 2001 | Holiday Inn Central.
Oncology | October 15-16, 2001 | Holiday Inn Central.
Alcoholism & Drug Dependence | October 22, 2001 | Holiday Inn Central.
Epidemiology | October 22, 2001 | Holiday Inn Central.
Infectious Diseases | October 23-24, 2001 | Holiday Inn Central.
General Medical Science | October 25-26, 2001 | Holiday Inn Central.
Medical Research Service Merit Review Committee | December 6, 2001 | Marriott Residence Inn.
* The addresses of the hotels are:
Holiday Inn Central Hotel, 1501 Rhode Island Avenue, NW, Washington, DC 20005.
Marriott Residence Inn Washington—Thomas Circle, 1199 Vermont Avenue, NW., Washington, DC 20005.
Radisson Barcelo Hotel, 2121 P Street, NW., Washington, DC 20037.

These subcommittee meetings are for the purpose of evaluating the scientific merit of research conducted in each specialty by Department of Veterans Affairs (VA) investigators working in VA Medical Centers and Clinics.

The subcommittee meetings will be open to the public for approximately one hour at the start of each meeting to discuss the general status of the program. The remaining portion of each subcommittee meeting will be closed to the public for the review, discussion, and evaluation of initial and renewal projects.

The closed portion of the meetings involves discussion, examination, reference to, and oral review of site visits, staff and consultant critiques of research protocols and similar documents. During this portion of the subcommittee meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended by Public Law 94-409, closing portions of these subcommittee meetings is in accordance with 5 U.S.C., 552b(c)(6) and (9)(B). Those who plan to attend or would like to obtain a copy of minutes of the subcommittee meetings and rosters of the members of the subcommittees should contact LeRoy Frey, Ph.D., Chief, Program Review Division, Medical Research Service, Department of Veterans Affairs, Washington, DC, (202) 408-3630.

Dated: August 2, 2001.
By Direction of the Secretary.
Nora E. Egan,
Committee Management Officer.

[FR Doc. 01-20279 Filed 8-10-01; 8:45 am]

BILLING CODE 8320-01-M